FEDERAL TRADE COMMISSION

16 CFR Part 305

RIN 3084-AB15

Energy Labeling Rule

AGENCY: Federal Trade Commission.

ACTION: Final rule.

SUMMARY: The Federal Trade Commission (“FTC” or “Commission”) issues routine updates to comparability range information on EnergyGuide labels for refrigerators and freezers, dishwashers, water heaters, room air conditioners (ranges only), clothes washers, furnaces, and pool heaters in the Energy Labeling Rule (“Rule”). The Commission also makes a minor, clarifying change to requirements for determining room air conditioner capacity.

DATES: The amendments are effective January 10, 2023, with the exception of amendatory instructions 9 (appendix E1) and 15 (appendix L), which are effective on October 1, 2023.

ADDRESSES: Relevant portions of the record of this proceeding, including this document, are available at https://www.ftc.gov.

FOR FURTHER INFORMATION CONTACT: Hampton Newsome (202-326-2889), Attorney, Division of Enforcement, Bureau of Consumer Protection, Federal Trade Commission, Room CC-9528, 600 Pennsylvania Avenue NW, Washington, DC 20580.

SUPPLEMENTARY INFORMATION:

I. Background

The Commission issued the Energy Labeling Rule (“Rule”) in 1979,¹ pursuant to the Energy Policy and Conservation Act of 1975 (“EPCA”).² The Rule requires energy labeling for major home appliances and other consumer products to help consumers compare competing models. It also contains labeling requirements for refrigerators, refrigerator-freezers, freezers, dishwashers, water heaters, clothes washers, room air conditioners, furnaces, central air conditioners, heat pumps, plumbing products, lighting products, ceiling fans, and televisions.

¹ 44 FR 66466 (Nov. 19, 1979).

² 42 U.S.C. 6294. EPCA also requires the Department of Energy (DOE) to develop test procedures that measure how much energy appliances use, and to determine the representative average cost a consumer pays for different types of energy.

The Rule requires manufacturers to attach yellow EnergyGuide labels to many covered products and prohibits retailers from removing these labels or rendering them illegible. In addition, it directs sellers, including retailers, to post label information on websites and in paper catalogs from which consumers can order products. EnergyGuide labels for most covered products contain three key disclosures: estimated annual energy cost, a product's energy consumption or energy efficiency rating as determined by Department of Energy (“DOE”) test procedures, and a comparability range displaying the highest and lowest energy costs or efficiency ratings for all similar models. For cost calculations, the Rule specifies national average costs for applicable energy sources (e.g., electricity, natural gas, oil) based on DOE estimates. Under the Rule, the Commission periodically updates comparability range and annual energy cost information based on manufacturer data submitted pursuant to the Rule's reporting requirements. The Rule sets a five-year schedule for updating range of comparability and annual energy cost information.³ Pursuant to that schedule, the Commission announces the following amendments.

³ 16 CFR 305.12.

II. Notice of Proposed Rulemaking

Consistent with the Rule's five-year schedule, on May 25, 2022 (87 FR 31754), the Commission proposed routine updates to comparability ranges and national average energy cost figures (appendices K1 and K2) for several product categories. The proposed amendments also updated § 305.10 to clarify that manufacturers must determine capacity for room air conditioners using current DOE requirements. In response, the Commission received nine comments, several of which raised specific issues with the proposed amendments.⁴ We discuss these issues below.

⁴ The comments are available at www.regulations.gov. Several comments also discussed broad issues unrelated to the notice of proposed rulemaking's (“NPRM”) proposed range updates, including full fuel cycle label disclosures (NPGA) (#007), EnergyGuide label design and content (Consumer Technology Association (CTA) (#009); Electrolux (#006); ACEEE (#010); and Anonymous (#003)), clothes dryer labeling (Electrolux (#006)), and the implementation of electronic labeling in lieu of physical labels (CTA) (#009). These issues fall outside the scope of the current proceeding, but the Commission may address them in a future review of the Rule.

III. Final Amendments

As discussed below, the Commission updates comparability ranges and national average energy cost figures (appendices K1 and K2) for several product categories consistent with the Rule's five-year schedule. The amendments also update § 305.10 to clarify that manufacturers must determine capacity for room air conditioners using current DOE requirements.⁵

⁵ The final amendments also insert the term “water heaters” to § 305.27(a)(1)(i) to correct an inadvertent omission from a previous proceeding. See 77 FR 15298 (Mar. 15, 2012) and 78 FR 2200 (Jan. 10, 2013) (no intent expressed to exclude water heaters from the group of products covered by the website requirement). Given the inadvertent nature of this omission, the Commission finds good cause to make this correction without additional comment. Finally, the amendments revise the next scheduled range update in § 305.12 from 2022 to 2027.

A. Comparability Range and Energy Cost Revisions

In accordance with the Rule's five-year schedule (§ 305.12), the Commission revises the comparability range and energy cost information for refrigerators and freezers, dishwashers, water heaters, room air conditioners (ranges only), clothes washers, furnaces, and pool heaters.⁶ In addition, the Commission updates the average energy cost figures manufacturers must use to calculate a model's estimated energy cost.⁷ Specifically, the Commission now updates the energy cost tables in appendices K1 and K2.⁸

⁶ This document also contains conforming changes to the sample labels in the Rule's appendices to reflect the new range and cost information.

⁷ 87 FR 12681 (Mar. 7, 2022) (DOE notice for “Representative Average Unit Costs of Energy”). Fuel costs in the FTC tables in appendices K1 and K2 are rounded to the nearest cent.

⁸ In response to AHAM's comments (#008), the final amendments consistently use the term “Energy Costs” in the appendix headings, instead of “Operating Costs.”

Television Ranges: In response to comments, the Commission will wait to update television ranges until DOE completes proposed test procedure changes for those products. Comments from the Association of Home Appliance Manufacturers (AHAM) (#008) and American Council for an Energy-Efficient Economy (ACEEE) (#010) explained DOE is currently finalizing changes to the television test procedure that will make substantive changes to the measured energy use for these products.⁹ To avoid multiple updates to the television label within a short period of time, the FTC, in coordination with DOE, will publish updated ranges after data derived from the upcoming test procedure becomes available.

⁹ 87 FR 11892 (March 2, 2022).

Clothes Washer Ranges: In response to AHAM's comment (#008), the final amendments correct the proposed clothes washer ranges to reflect only the annual energy consumption of the tested model. The proposed ranges in the NPRM were inadvertently derived from energy consumption figures that reflected DOE's Integrated Modified Energy Factor, an efficiency rating that does not appear on the label and accounts for expected dryer use associated with the washer.

Timing of Updates: Consistent with § 305.12, manufacturers must begin using this information on new product labels within 90 days after publication of a final notification announcing updated ranges for specific products. Manufacturers do not have to relabel products labeled prior to the effective date of the changes. For room air conditioners, however, the final notification sets a compliance date of October 1, 2023.

In the NPRM, the Commission proposed setting an October 1, 2022, effective date for those ranges because this label must appear on product boxes, and such package changes can require additional planning and coordination. The proposed October date coincides with the annual production cycle (i.e., the cooling season) for those products.

However, in its comments, AHAM (#008) stressed that, given the likely timing of the final range publication, manufacturers will be unable to change labels on packaging to reflect the new labels for this year's production cycle. Therefore, AHAM recommended a compliance date for the new room air conditioner ranges coinciding with next year's production cycle. In response, this document sets the compliance date for 2023. Adjusting the compliance date should have minimal impact on the label's usefulness in the interim because the old and new ranges are not substantially different for many model categories, and the label's primary feature—the model-specific cost number—will not change because of these amendments. Additionally, extending the compliance date will promote consistency in labels and otherwise foster an orderly transition over the next year by setting a compliance date that all manufacturers will be able to meet.

Cost Figures for Room and Portable Air Conditioners: As explained in the NPRM, the amendments do not change the range and cost information for central air conditioner and portable air conditioner labels because the Commission recently updated those ranges.¹⁰ Additionally, the amendments do not change the cost figure for room air conditioner labels because such a change would make room air conditioner labels inconsistent with cost information on portable air conditioners, a similar product category. This inconsistency could cause consumer confusion and make comparison shopping more difficult. Accordingly, the electricity cost figure ($0.13/kWh) for those two categories appears in appendix K2 and in the calculations for the room air conditioner cost ranges (appendix E) in the amendments. No comments opposed this change.

¹⁰ See 86 FR 9274 (Feb. 12, 2021) (portable air conditioners); 86 FR 57985 (Oct. 20, 2021) (central air conditioners).

B. Capacity Determinations for Room Air Conditioners and Portable Air Conditioners

The amendments also update § 305.10 to clarify that manufacturers must determine capacity for room air conditioners using current DOE requirements. Specifically, the amendment eliminates obsolete text related to rounding and updates references to existing DOE requirements for capacity determinations.¹¹ No comments opposed this change.

¹¹ 86 FR 9274 (Feb. 12, 2022). In its comments, AHAM (#008) also sought FTC guidance regarding the content, including the capacity measurements, for the new portable air conditioner labels announced in an earlier proceeding. Manufacturers should use the seasonally adjusted cooling capacity for these products on the labels. The FTC will address the issue further should pending DOE test procedure changes (87 FR 34934 (June 8, 2022)) necessitate an alteration in that guidance. In addition, the FTC staff has added a sample label template for portable air conditioners to the FTC website to aid manufacturers in creating their own labels. See https://www.ftc.gov/business-guidance/resources/energyguide-labels-templates-manufacturers.

IV. Paperwork Reduction Act

The current Rule contains recordkeeping, disclosure, testing, and reporting requirements that constitute information collection requirements as defined by 5 CFR 1320.3(c), the definitional provision within the Office of Management and Budget (OMB) regulations that implement the Paperwork Reduction Act. OMB has approved the Rule's existing information collection requirements through February 29, 2024 (OMB Control No. 3084-0069). The amendments do not change the substance or frequency of the recordkeeping, disclosure, or reporting requirements and, therefore, do not require further OMB clearance.

V. Regulatory Flexibility Act

The provisions of the Regulatory Flexibility Act relating to a Regulatory Flexibility Act analysis (5 U.S.C. 603-604) are not applicable to this proceeding because the amendments do not impose any new obligations on entities regulated by the Energy Labeling Rule. As explained elsewhere in this document, the amendments do not change the substance or frequency of the recordkeeping, disclosure, or reporting requirements. Thus, the amendments will not have a “significant economic impact on a substantial number of small entities.” 5 U.S.C. 605. The Commission has concluded, therefore, that a regulatory flexibility analysis is not necessary, and certifies, under Section 605 of the Regulatory Flexibility Act (5 U.S.C. 605(b)), that the amendments will not have a significant economic impact on a substantial number of small entities.

VI. Other Matters

Pursuant to the Congressional Review Act (5 U.S.C. 801 et seq.), the Office of Information and Regulatory Affairs designated this rule as not a “major rule,” as defined by 5 U.S.C. 804(2).

List of Subjects in 16 CFR Part 305

Advertising, Energy conservation, Household appliances, Labeling, Reporting and recordkeeping requirements.

For the reasons stated above, the Commission amends part 305 of title 16 of the Code of Federal Regulations as follows:

PART 305—ENERGY AND WATER USE LABELING FOR CONSUMER PRODUCTS UNDER THE ENERGY POLICY AND CONSERVATION ACT (“ENERGY LABELING RULE”)

1. The authority citation for part 305 continues to read as follows:

Authority: 42 U.S.C. 6294.

2. Amend § 305.10 by revising paragraph (f) to read as follows:

§ 305.10 Determinations of capacity.

* * * * *

(f) Room air conditioners and portable air conditioners. The capacity for room air conditioners and portable air conditioners shall be determined according to 10 CFR part 430, subpart B, with rounding determined in accordance with 10 CFR part 430.

* * * * *

3. Amend § 305.12 by revising paragraphs (a) and (b) to read as follows:

§ 305.12 Ranges of comparability on the required labels.

(a) Range of estimated annual energy costs or energy efficiency ratings. The range of estimated annual operating costs or energy efficiency ratings for each covered product (except televisions, ceiling fans, fluorescent lamp ballasts, lamps, metal halide lamp fixtures, showerheads, faucets, water closets, and urinals) shall be taken from the appropriate appendix to this part in effect at the time the labels are affixed to the product. The Commission shall publish revised ranges in the Federal Register in 2027. When the ranges are revised, all information disseminated after 90 days following the publication of the revision shall conform to the revised ranges. Products that have been labeled prior to the effective date of a modification under this section need not be relabeled.

(b) Representative average unit energy cost. The Representative Average Unit Energy Cost to be used on labels as required by §§ 305.14 through 305.19 and disclosures as required by § 305.27 are listed in appendices K1 and K2 to this part. The Commission shall publish revised Representative Average Unit Energy Cost figures in the Federal Register in 2027. When the cost figures are revised, all information disseminated after 90 days following the publication of the revision shall conform to the new cost figure.

* * * * *

4. Amend § 305.27 by revising paragraph (a)(1)(i) to read as follows:

§ 305.27 Paper catalogs and websites.

(a) * * *

(1) * * *

(i) Products required to bear EnergyGuide or Lighting Facts labels. All websites advertising covered refrigerators, refrigerator-freezers, freezers, room air conditioners, portable air conditioners, clothes washers, dishwashers, ceiling fans, pool heaters, water heaters, central air conditioners, heat pumps, furnaces, general service lamps, specialty consumer lamps (for products offered for sale after May 2, 2018), and televisions must display, for each model, a recognizable and legible image of the label required for that product by this part. The website may hyperlink to the image of the label using the sample EnergyGuide and Lighting Facts icons depicted in appendix L of this part. The website must hyperlink the image in a way that does not require consumers to save the hyperlinked image to view it.

* * * * *

5. Revise appendices A1 through A9 to read as follows:

Appendix A1 to Part 305—Refrigerators With Automatic Defrost

Range Information
Manufacturer's rated total refrigerated volume in cubic feet | Range of estimated annual energy costs (dollars/year): Low | Range of estimated annual energy costs (dollars/year): High
Less than 10.5 | $20 | 45
10.5 to 12.4 | 28 | 40
12.5 to 14.4 | 33 | 47
14.5 to 16.4 | 33 | 46
16.5 to 18.4 | 38 | 52
18.5 to 20.4 | 42 | 50
20.5 to 22.4 | 35 | 57
22.5 to 24.4 | 51 | 59
24.5 to 26.4 | (*) | (*)
26.5 to 28.4 | (*) | (*)
28.5 and over | (*) | (*)
(*) No data.

Appendix A2 to Part 305—Refrigerators and Refrigerator-Freezers With Manual Defrost

Range Information
Manufacturer's rated total refrigerated volume in cubic feet | Range of estimated annual energy costs (dollars/year): Low | Range of estimated annual energy costs (dollars/year): High
Less than 10.5 | $11 | $46
10.5 to 12.4 | (*) | (*)
12.5 to 14.4 | (*) | (*)
14.5 to 16.4 | (*) | (*)
16.5 to 18.4 | (*) | (*)
18.5 to 20.4 | (*) | (*)
20.5 to 22.4 | (*) | (*)
22.5 to 24.4 | (*) | (*)
24.5 to 26.4 | (*) | (*)
26.5 to 28.4 | (*) | (*)
28.5 and over | (*) | (*)
(*) No data.

Appendix A3 to Part 305—Refrigerator-Freezers With Partial Automatic Defrost

Range Information
Manufacturer's rated total refrigerated volume in cubic feet | Range of estimated annual energy costs (dollars/year): Low | Range of estimated annual energy costs (dollars/year): High
Less than 10.5 | $27 | $55
10.5 to 12.4 | (*) | (*)
12.5 to 14.4 | (*) | (*)
14.5 to 16.4 | (*) | (*)
16.5 to 18.4 | 53 | 53
18.5 to 20.4 | 48 | 55
20.5 to 22.4 | (*) | (*)
22.5 to 24.4 | (*) | (*)
24.5 to 26.4 | (*) | (*)
26.5 to 28.4 | (*) | (*)
28.5 and over | (*) | (*)
(*) No data.

Appendix A4 to Part 305—Refrigerator-Freezers With Automatic Defrost With Top-Mounted Freezer No Through-The-Door Ice

Range Information
Manufacturer's rated total refrigerated volume in cubic feet | Range of estimated annual energy costs (dollars/year): Low | Range of estimated annual energy costs (dollars/year): High
Less than 10.5 | $40 | $62
10.5 to 12.4 | 43 | 61
12.5 to 14.4 | 44 | 64
14.5 to 16.4 | 45 | 66
16.5 to 18.4 | 49 | 70
18.5 to 20.4 | 48 | 72
20.5 to 22.4 | 51 | 76
22.5 to 24.4 | 58 | 78
24.5 to 26.4 | 66 | 81
26.5 to 28.4 | (*) | (*)
28.5 and over | (*) | (*)
(*) No data.

Appendix A5 to Part 305—Refrigerator-Freezers With Automated Defrost With Side-Mounted Freezer No Through-The-Door Ice

Range Information
Manufacturer's rated total refrigerated volume in cubic feet | Range of estimated annual energy costs (dollars/year): Low | Range of estimated annual energy costs (dollars/year): High
Less than 10.5 | $54 | $82
10.5 to 12.4 | (*) | (*)
12.5 to 14.4 | 39 | 40
14.5 to 16.4 | 49 | 65
16.5 to 18.4 | 69 | 70
18.5 to 20.4 | 66 | 70
20.5 to 22.4 | 70 | 101
22.5 to 24.4 | 78 | 105
24.5 to 26.4 | 80 | 109
26.5 to 28.4 | 91 | 113
28.5 and over | 84 | 118
(*) No data.

Appendix A6 to Part 305—Refrigerator-Freezers With Automatic Defrost With Bottom-Mounted Freezer No Through-The-Door Ice

Range Information
Manufacturer's rated total refrigerated volume in cubic feet | Range of estimated annual energy costs (dollars/year): Low | Range of estimated annual energy costs (dollars/year): High
Less than 10.5 | $42 | $73
10.5 to 12.4 | 47 | 79
12.5 to 14.4 | 50 | 77
14.5 to 16.4 | 53 | 85
16.5 to 18.4 | 60 | 86
18.5 to 20.4 | 60 | 91
20.5 to 22.4 | 62 | 94
22.5 to 24.4 | 65 | 98
24.5 to 26.4 | 74 | 96
26.5 to 28.4 | 67 | 95
28.5 and over | 91 | 101
(*) No data.

Appendix A7 to Part 305—Refrigerator-Freezers With Automatic Defrost With Bottom-Mounted Freezer With Through-The-Door Ice Service

Range Information
Manufacturer's rated total refrigerated volume in cubic feet | Range of estimated annual energy costs (dollars/year): Low | Range of estimated annual energy costs (dollars/year): High
Less than 10.5 | (*) | (*)
10.5 to 12.4 | (*) | (*)
12.5 to 14.4 | (*) | (*)
14.5 to 16.4 | (*) | (*)
16.5 to 18.4 | $80 | $90
18.5 to 20.4 | 83 | 98
20.5 to 22.4 | 91 | 103
22.5 to 24.4 | 77 | 106
24.5 to 26.4 | 89 | 109
26.5 to 28.4 | 83 | 112
28.5 and over | 90 | 113
(*) No data.

Appendix A8 to Part 305—Refrigerator-Freezers With Automatic Defrost With Side-Mounted Freezer With Through-The-Door Ice Service

Range Information
Manufacturer's rated total refrigerated volume in cubic feet | Range of estimated annual energy costs (dollars/year): Low | Range of estimated annual energy costs (dollars/year): High
Less than 10.5 | (*) | (*)
10.5 to 12.4 | (*) | (*)
12.5 to 14.4 | (*) | (*)
14.5 to 16.4 | (*) | (*)
16.5 to 18.4 | $87 | $88
18.5 to 20.4 | 78 | 110
20.5 to 22.4 | 72 | 109
22.5 to 24.4 | 76 | 115
24.5 to 26.4 | 81 | 116
26.5 to 28.4 | 89 | 122
28.5 and over | 104 | 124
(*) No data.

Appendix A9 to Part 305—All Refrigerators and Refrigerator-Freezers

Range Information
Manufacturer's rated total refrigerated volume in cubic feet | Range of estimated annual energy costs (dollars/year): Low | Range of estimated annual energy costs (dollars/year): High
Less than 10.5 | $11 | $82
10.5 to 12.4 | 28 | 79
12.5 to 14.4 | 33 | 77
14.5 to 16.4 | 33 | 84
16.5 to 18.4 | 38 | 90
18.5 to 20.4 | 42 | 110
20.5 to 22.4 | 35 | 109
22.5 to 24.4 | 51 | 115
24.5 to 26.4 | 66 | 116
26.5 to 28.4 | 67 | 122
28.5 and over | 84 | 124
(*) No data.

6. Revise appendices B1 through B3 to read as follows:

Appendix B1 to Part 305—Upright Freezers With Manual Defrost

Range Information
Manufacturer's rated total refrigerated volume in cubic feet | Range of estimated annual energy costs (dollars/year): Low | Range of estimated annual energy costs (dollars/year): High
Less than 5.5 | $18 | $43
5.5 to 7.4 | 35 | 47
| 34 | 40
7.5 to 9.4 | 36 | 36
9.5 to 11.4 | (*) | (*)
11.5 to 13.4 | 42 | 47
13.5 to 15.4 | 49 | 51
15.5 to 17.4 | (*) | (*)
17.5 to 19.4 | 49 | 56
19.5 to 21.4 | (*) | (*)
21.5 to 23.4 | (*) | (*)
23.5 to 25.4 | (*) | (*)
25.5 to 27.4 | (*) | (*)
27.5 to 29.4 | (*) | (*)
29.5 and over |  |
(*) No data.

Appendix B2 to Part 305—Upright Freezers With Automatic Defrost

Range Information
Manufacturer's rated total refrigerated volume in cubic feet | Range of estimated annual energy costs (dollars/year): Low | Range of estimated annual energy costs (dollars/year): High
Less than 5.5 | $37 | $63
5.5 to 7.4 | (*) | (*)
| 44 | 69
7.5 to 9.4 | 44 | 68
9.5 to 11.4 | 54 | 79
11.5 to 13.4 | 54 | 85
13.5 to 15.4 | 58 | 89
15.5 to 17.4 | 62 | 84
17.5 to 19.4 | 63 | 91
19.5 to 21.4 | 101 | 104
21.5 to 23.4 | (*) | (*)
23.5 to 25.4 | (*) | (*)
25.5 to 27.4 | (*) | (*)
27.5 to 29.4 | (*) | (*)
29.5 and over |  |
(*) No data.

Appendix B3 to Part 305—Chest Freezers and All Other Freezers

Range Information
Manufacturer's rated total refrigerated volume in cubic feet | Range of estimated annual energy costs (dollars/year): Low | Range of estimated annual energy costs (dollars/year): High
Less than 5.5 | $19 | $32
5.5 to 7.4 | 31 | 36
| 27 | 37
7.5 to 9.4 | 28 | 35
9.5 to 11.4 | 35 | $38
11.5 to 13.4 | 39 | 42
13.5 to 15.4 | 38 | 46
15.5 to 17.4 | 46 | 47
17.5 to 19.4 | 50 | 53
19.5 to 21.4 | 48 | 55
21.5 to 23.4 | 59 | 59
23.5 to 25.4 | (*) | (*)
25.5 to 27.4 | (*) | (*)
27.5 to 29.4 | (*) | (*)
29.5 and over |  |
(*) No data.

7. Revise appendices C1 and C2 to read as follows:

Appendix C1 to Part 305—Compact Dishwashers

Range Information

“Compact” includes countertop dishwasher models with a capacity of fewer than eight (8) place settings. Place settings shall be in accordance with appendix C to 10 CFR part 430, subpart B. Load patterns shall conform to the operating normal for the model being tested.

Capacity | Range of estimated annual energy costs (dollars/year): Low | Range of estimated annual energy costs (dollars/year): High
Compact | $14 | $32

Appendix C2 to Part 305—Standard Dishwashers

Range Information

“Standard” includes dishwasher models with a capacity of eight (8) or more place settings. Place settings shall be in accordance with appendix C to 10 CFR part 430, subpart B. Load patterns shall conform to the operating normal for the model being tested.

Capacity | Range of estimated annual energy costs (dollars/year): Low | Range of estimated annual energy costs (dollars/year): High
Standard | $28 | $43

8. Revise appendices D1 through D5 to read as follows:

Appendix D1 to Part 305—Water Heaters—Gas

Range Information
Capacity (first hour rating in gallons) | Range of estimated annual energy costs (dollars/year): Natural gas ($/year): Low | Range of estimated annual energy costs (dollars/year): Natural gas ($/year): High | Range of estimated annual energy costs (dollars/year): Propane ($/year): Low | Range of estimated annual energy costs (dollars/year): Propane ($/year): High
“Very Small”—less than 18 | (*) | (*) | (*) | (*)
“Low”—18 to 50.9 | $162 | $172 | (*) | (*)
“Medium”—51 to 74.9 | 227 | 300 | 460 | 606
“High”—over 75 | 227 | 336 | 460 | 679
(*) No data.

Appendix D2 to Part 305—Water Heaters—Electric

Range Information
Capacity: First hour rating | Range of estimated annual energy costs (dollars/year): Low | Range of estimated annual energy costs (dollars/year): High
“Very Small”—less than 18 | (*) | (*)
“Low”—18 to 50.9 | $90 | $357
“Medium”—51 to 74.9 | 154 | 630
“High”—over 75 | 173 | 747
(*) No data.

Appendix D3 to Part 305—Water Heaters—Oil

Range Information
Capacity: First hour rating | Range of estimated annual energy costs (dollars/year): Low | Range of estimated annual energy costs (dollars/year): High
“Very Small”—less than 18 | (*) | (*)
“Low”—18 to 50.9 | (*) | (*)
“Medium”—51 to 74.9 | (*) | (*)
“High”—over 75 | $625 | $686
(*) No data.

Appendix D4 to Part 305—Water Heaters—Instantaneous—Gas

Range Information
Capacity: Capacity (maximum flow rate); gallons per minute (gpm) | Range of estimated annual energy costs (dollars/year): Natural gas ($/year): Low | Range of estimated annual energy costs (dollars/year): Natural gas ($/year): High | Range of estimated annual energy costs (dollars/year): Propane ($/year): Low | Range of estimated annual energy costs (dollars/year): Propane ($/year): High
“Very Small”—less than 1.6 | $24 | $30 | $50 | $61
“Low”—1.7 to 2.7 | (*) | (*) | (*) | (*)
“Medium”—2.8 to 3.9 | 183 | 216 | 370 | 437
“High”—over 4.0 | 210 | 253 | 427 | 511
(*) No data.

Appendix D5 to Part 305—Water Heaters—Instantaneous—Electric

Range Information
Capacity: Capacity (maximum flow rate); gallons per minute (gpm) | Range of estimated annual energy costs (dollars/year): Low | Range of estimated annual energy costs (dollars/year): High
“Very Small”—less than 1.6 | $82 | $90
“Low”—1.7 to 2.7 | (*) | (*)
“Medium”—2.8 to 3.9 | (*) | (*)
“High”—over 4.0 | (*) | (*)
(*) No data.

9. Effective October 1, 2023, revise appendix E1 to read as follows:

Appendix E1 to Part 305—Room Air Conditioners

Range Information
Manufacturer's rated cooling capacity in Btu/hr | Range of estimated annual energy costs (dollars/year): Low | Range of estimated annual energy costs (dollars/year): High
Without Reverse Cycle and with Louvered Sides:
Less than 6,000 Btu | $40 | $46
6,000 to 7,999 Btu | 47 | 69
8,000 to 13,999 Btu | 49 | 121
14,000 to 19,999 Btu | 91 | 169
20,000 to 27,999 Btu | 147 | 287
28,000 and more Btu | 275 | 380
Without Reverse Cycle and without Louvered Sides:
Less than 8,000 Btu | (*) | (*)
8,000 to 10,999 Btu | 73 | 102
11,000 to 13,999 Btu | 107 | 140
14,000 to 19,999 Btu | 144 | 162
20,000 or more Btu | (*) | (*)
With Reverse Cycle and with Louvered Sides | 79 | 230
With Reverse Cycle, without Louvered Sides | 81 | 117
(*) No data.

10. Revise appendices F1 and F2 to read as follows:

Appendix F1 to Part 305—Standard Clothes Washers

Range Information

“Standard” includes all household clothes washers with a tub capacity of 1.6 cu. ft. or more.

Capacity | Range of estimated annual energy costs (dollars/year): Low | Range of estimated annual energy costs (dollars/year): High
Standard | $4 | $48

Appendix F2 to Part 305—Compact Clothes Washers

Range Information

“Compact” includes all household clothes washers with a tub capacity of less than 1.6 cu. ft.

Capacity | Range of estimated annual energy costs (dollars/year): Low | Range of estimated annual energy costs (dollars/year): High
Compact | $2 | $14
(*) No data.

11. Revise appendices G1 through G8 to read as follows:

Appendix G1 to Part 305—Furnaces—Gas

Furnace type | Range of annual fuel utilization efficiencies (AFUEs): Low | Range of annual fuel utilization efficiencies (AFUEs): High
Non-Weatherized Gas Furnaces—All Capacities | 80.0 | 99.0
Weatherized Gas Furnaces—All Capacities | 81.0 | 95.0

Appendix G2 to Part 305—Furnaces—Electric

Furnace type | Range of annual fuel utilization efficiencies (AFUEs): Low | Range of annual fuel utilization efficiencies (AFUEs): High
Electric Furnaces—All Capacities | 100.0 | 100.0

Appendix G3 to Part 305—Furnaces—Oil

Type | Range of annual fuel utilization efficiencies (AFUEs): Low | Range of annual fuel utilization efficiencies (AFUEs): High
Non-Weatherized Oil Furnaces—All Capacities | 83.0 | 96.7
Weatherized Oil Furnaces—All Capacities | (*) | (*)
(*) No data.

Appendix G4 to Part 305—Mobile Home Furnaces—Gas

Type | Range of annual fuel utilization efficiencies (AFUEs): Low | Range of annual fuel utilization efficiencies (AFUEs): High
Mobile Home Gas Furnaces—All Capacities | 80.0 | 97.3

Appendix G5 to Part 305—Mobile Home Furnaces—Oil

Type | Range of annual fuel utilization efficiencies (AFUEs): Low | Range of annual fuel utilization efficiencies (AFUEs): High
Mobile Home Oil Furnaces—All Capacities | 80.0 | 87.0

Appendix G6 to Part 305—Boilers (Gas)

Type | Range of annual fuel utilization efficiencies (AFUEs): Low | Range of annual fuel utilization efficiencies (AFUEs): High
Gas Boilers (except steam)—All Capacities | 84 | 96.4
Gas Boilers (steam)—All Capacities | 82 | 83.4

Appendix G7 to Part 305—Boilers (Oil)

Type | Range of annual fuel utilization efficiencies (AFUEs): Low | Range of annual fuel utilization efficiencies (AFUEs): High
Oil Boilers—All Capacities | 85 | 88.2

Appendix G8 to Part 305—Boilers (Electric)

Type | Range of annual fuel utilization efficiencies (AFUEs): Low | Range of annual fuel utilization efficiencies (AFUEs): High
Electric Boilers—All Capacities | 100 | 100

12. Revise appendices J1 and J2 to read as follows:

Appendix J1 to Part 305—Pool Heaters—Gas

Range Information
Manufacturer's rated heating capacities | Range of thermal efficiencies (percent): Natural gas: Low | Range of thermal efficiencies (percent): Natural gas: High | Range of thermal efficiencies (percent): Propane: Low | Range of thermal efficiencies (percent): Propane: High
All capacities | 82.0 | 95.0 | 82.0 | 95.0

Appendix J2 to Part 305—Pool Heaters—Oil

Range Information
Manufacturer's rated heating capacities | Range of thermal efficiencies (percent): Low | Range of thermal efficiencies (percent): High
All capacities | (*) | (*)
(*) No data.

13. Revise appendices K1 and K2 to read as follows:

Appendix K1 to Part 305—Representative Average Unit Energy Costs for Refrigerators, Refrigerator-Freezers, Freezers, Clothes Washers, Dishwashers, and Water Heater Labels

This table contains the representative unit energy costs that must be utilized to calculate estimated annual energy cost disclosures required under this part for refrigerators, refrigerator-freezers, freezers, clothes washers, dishwashers, and water heaters. This table is based on information published by the U.S. Department of Energy in 2022.

Type of energy | In commonly used terms | As required by DOE test procedure
Electricity | ¢14/kWh ¹ ² | $.1400/kWh.
Natural Gas | $1.21/therm ³ $12.6/MCF ⁵ ⁶ | $0.00001209/Btu.⁴
No. 2 Heating Oil | $3.45/gallon ⁷ | $0.00002511/Btu.
Propane | $223/gallon ⁸ | $0.00002446/Btu.
Kerosene | $4.01/gallon ⁹ | $ 0.00002973/Btu.
¹ kWh stands for kiloWatt hour.
² 1 kWh = 3,412 Btu.
³ 1 therm = 100,000 Btu. Natural gas prices include taxes.
⁴ Btu stands for British thermal unit.
⁵ MCF stands for 1,000 cubic feet.
⁶ For the purposes of this table, 1 cubic foot of natural gas has an energy equivalence of 1,039 Btu.
⁷ For the purposes of this table, one gallon of No. 2 heating oil has an energy equivalence of 13,738 Btu.
⁸ For the purposes of this table, one gallon of liquid propane has an energy equivalence of 91,333 Btu.
⁹ For the purposes of this table, one gallon of kerosene has an energy equivalence of 135,000 Btu.

Appendix K2 to Part 305—Representative Average Unit Energy Costs for Room Air Conditioner and Portable Air Conditioner Labels

This table contains the representative unit energy costs that must be utilized to calculate estimated annual energy cost disclosures required under this part for room air conditioners and portable air conditioners. This table is based on information published by the U.S. Department of Energy in 2017.

Type of energy | In commonly used terms | As required by DOE test procedure
Electricity | ¢13/kWh ¹ | $.1300/kWh.
¹ kWh stands for kilowatt hour.

14. Amend appendix L by revising prototype labels 1 and 2 and sample labels 1, 2, 3, 5, 6, 9, and 9A to read as follows:

Appendix L to Part 305—Sample Labels

BILLING CODE 6750-01-P

* * * * *

* * * * *

* * * * *

* * * * *

15. Effective October 1, 2023, appendix L is further amended by revising sample label 4 to read as follows:

Appendix L to Part 305—Sample Labels

* * * * *

* * * * *

By direction of the Commission, Commissioner Wilson dissenting.
April J. Tabor,
Secretary.

[FR Doc. 2022-22036 Filed 10-11-22; 8:45 am]

BILLING CODE 6750-01-C